DEPARTMENT OF ENERGY

Federal Energy Regulatory Commission

[Project No. 9821-108]

Ampersand Ogdensburg Hydro LLC; Notice of Intent To File License Application, Filing of Pre-Application Document, and Approving Use of the Traditional Licensing Process

a. Type of Application: Notice of Intent (NOI) to File License Application and Request to Use the Traditional Licensing Process (TLP).

b. Project No.: 9821-108.

c. Date filed: May 27, 2022.

d. Submitted by: Ampersand Ogdensburg Hydro LLC (Ogdensburg Hydro).

e. Name of Project: Ogdensburg Hydroelectric Project.

f. Location: Located on the Oswegatchie River near the City of Ogdensburg in Saint Lawrence County, New York. The project does not occupy any federal land.

g. Filed Pursuant to: 18 CFR 5.3 of the Commission's regulations.

h. Potential Applicant Contact: Mr. Sayad Moudachirou, Licensing Manager, Ampersand Ogdensburg Hydro LLC, 717 Atlantic Avenue, Boston, MA 02111. Phone: (617) 933-7206, Email: sayad@ampersandenergy.com.

i. FERC Contact: Chris Millard, Phone: (202) 502-8256, email: christopher. millard@ferc.gov.

j. Ogdensburg Hydro filed its request to use the TLP on May 27, 2022 and provided public notice of its request on August 2, 2022.¹ In a letter dated September 23, 2022, the Director of the Division of Hydropower Licensing approved Ogdensburg Hydro's request to use the TLP.

¹ Ogdensburg Hydro's initial notice of its request to use the TLP, published on June 7, 2022, did not correctly state the starting date of the 30-day comment period of the request. The August 2, 2022 notice corrected the starting date error and provided an additional 30-day comment period on the TLP request.

k. With this notice, we are initiating informal consultation with the U.S. Fish and Wildlife Service and/or NOAA Fisheries under section 7 of the Endangered Species Act and the joint agency regulations thereunder at 50 CFR, Part 402; and NOAA Fisheries under section 305(b) of the Magnuson-Stevens Fishery Conservation and Management Act and implementing regulations at 50 CFR 600.920. We are also initiating consultation with the New York State Historic Preservation Officer, as required by section 106, National Historic Preservation Act, and the implementing regulations of the Advisory Council on Historic Preservation at 36 CFR 800.2.

l. With this notice, we are designating Ogdensburg Hydro as the Commission's non-federal representative for carrying out informal consultation pursuant to section 7 of the Endangered Species Act; and consultation pursuant to section 106 of the National Historic Preservation Act.

m. Ogdensburg Hydro filed a Pre-Application Document (PAD; including a proposed process plan and schedule) with the Commission, pursuant to 18 CFR 5.6 of the Commission's regulations.

n. A copy of the PAD may be viewed on the Commission's website (http://www.ferc.gov), using the “eLibrary” link. Enter the docket number, excluding the last three digits in the docket number field, to access the document. For assistance, contact FERC Online Support at FERCOnlineSupport@ferc.gov, (866) 208-3676 (toll free), or (202) 502-8659 (TTY).

o. The applicant states its unequivocal intent to submit an application for a new license for Project No. 9821. Pursuant to 18 CFR 16.8, 16.9, and 16.10 each application for a new license and any competing license applications must be filed with the Commission at least 24 months prior to the expiration of the existing license. All applications for license for this project must be filed by May 31, 2025.

p. Register online at http://www.ferc.gov/docs-filing/esubscription.asp to be notified via email of new filing and issuances related to this or other pending projects. For assistance, contact FERC Online Support.

Dated: September 23, 2022.
Kimberly D. Bose,
Secretary.

[FR Doc. 2022-21149 Filed 9-28-22; 8:45 am]

BILLING CODE 6717-01-P